DEPARTMENT OF ENERGY

Stakeholder Forum on Alternative Technologies to Incineration

AGENCY: Department of Energy.

ACTION: Notice of Stakeholder Forum on alternative technologies to incineration.

SUMMARY: The Department of Energy (DOE) seeks to improve stakeholder involvement in its efforts to develop and evaluate alternative technologies to incineration for mixed transuranic and mixed low level waste. To encourage broad, diverse stakeholder participation, DOE is hosting the Stakeholder Forum on Alternative Technologies to Incineration, June 7-8, 2002, in Denver, Colorado.

DATES: The Forum will be held on June 7-8, 2002. June 7, 2002, from 1 p.m.-5:30 p.m. and June 8, 2002, 8:30 a.m. to 4 p.m.

ADDRESSES: Denver Airport Marriott, 6900 Tower Road, Denver, CO 80249, Phone: 303-371-0300 or 800-321-2211.

Forum Information and Registration: For more information on the background of the Forum please visit http://tmfa.inel.gov/ati/. Registration materials and a draft meeting agenda are available on the following website http://www.getf.org/ati.

FOR FURTHER INFORMATION CONTACT: Ms. Noeleen Tillman, Global Environment and Technology Foundation, 7010 Little River Turnpike, Suite # 460, Annandale, VA 22003; e-mail ntillman@getf.org; telephone (760) 434-4662.

SUPPLEMENTARY INFORMATION: The objectives of the Forum include: (1) To facilitate an exchange of information among technical experts, regulators, and interested stakeholders, and (2) to identify stakeholder values and concerns that the Department should consider in its technology development and evaluation process.

Topics for discussion at the Stakeholder Forum include:

• The Department of Energy's plans for developing alternative technologies to incineration.

• The current state of alternative technology development.

• Factors to be considered in determining the acceptability of new technologies.

• Stakeholder views regarding the benefits and drawbacks of various alternative technologies.

• Opportunities for stakeholder involvement in new technology development and evaluation.

• Federal and State regulatory processes, including permitting.

Issued at Washington, DC, on April 18, 2002.
James Owendoff,
Deputy Assistant Secretary for Science and Technology.

[FR Doc. 02-9194 Filed 4-15-02; 8:45 am]

BILLING CODE 6450-01-P